DEPARTMENT OF HOMELAND SECURITY

Coast Guard

33 CFR Part 117

[Docket No. USCG-2010-0861]

Drawbridge Operation Regulations; Saugatuck River, Saugatuck, CT

AGENCY: Coast Guard, DHS.

ACTION: Notice of temporary deviation from regulations.

SUMMARY: The Commander, First Coast Guard District, has issued a temporary deviation from the regulation governing the operation of the Saga Railroad Bridge across the Saugatuck River, mile 1.1, at Saugatuck, Connecticut. The deviation is necessary to facilitate scheduled rehabilitation maintenance at the bridge. Under this deviation the bridge may remain in the closed position from October 1, 2010 through October 17, 2010.

DATES: This deviation is effective with constructive notice from October 12, 2010 through October 17, 2010, and for enforcement with actual notice from October 1, 2010 through October 12, 2010.

ADDRESSES: Documents mentioned in this preamble as being available in the docket are part of docket USCG-2010-0861 and are available online at http://www.regulations.gov, inserting USCG-2010-0861 in the “Keyword” and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy K. Leung-Yee, Project Officer, First Coast Guard District, telephone (212) 668-7165, judy.k.leung-yee@uscg.mil. If you have questions on viewing the docket, call Renee V. Wright, Program Manager, Docket Operations, telephone 202-366-9826.

SUPPLEMENTARY INFORMATION: The Saga Railroad Bridge across the Saugatuck River at mile 1.1, has a vertical clearance of 13 feet at mean high water and 20 feet at mean low water. The drawbridge operation regulations are listed at 33 CFR 117.221(b).

The owner of the bridge, Metro North Railroad, requested a temporary deviation from the regulations to facilitate scheduled maintenance, track tie replacement, from October 1, 2010 through October 17, 2010.

The normal waterway users are predominantly recreational craft of various sizes.

Under this temporary deviation the Saga Railroad Bridge may remain in the closed position from October 1, 2010 through October 17, 2010, to facilitate rehabilitation maintenance at the bridge.

Vessels that can pass under the bridge in the closed position may do so at any time.

Waterway users were advised of the requested bridge and channel closure and offered no objection.

In accordance with 33 CFR 117.35(e), the bridge must return to its regular operating schedule immediately at the end of the designated time period. This deviation from the operating regulations is authorized under 33 CFR 117.35.

Dated: September 28, 2010.
Gary Kassof,
Bridge Program Manager, First Coast Guard District.

[FR Doc. 2010-25494 Filed 10-8-10; 8:45 am]

BILLING CODE 9110-04-P